DEPARTMENT OF ENERGY

Federal Energy Regulatory Commission

[Project No. 2722-008 Utah]

PacifiCorp Power Company; Notice of Availability of Draft Environmental Assessment

February 18, 2000.

In accordance with the National Environmental Policy Act of 1969 and the Federal Energy Regulatory Commission's (Commission) regulations, 18 CFR part 380 (Order No. 486, 52 FR 47897), the Office of Hydropower Licensing has reviewed the application for a new license for the Pioneer Hydroelectric Project, and has prepared a Draft Environmental Assessment (DEA). The project is located on the Ogden River near the City of Ogden, Weber County, Utah. The water to operate the project comes from the Pineview dam, via the Ogden Canyon Conduit. The dam is owned and operated by the Bureau of Reclamation (BOR). However, the 5.5-mile-long flowline is located within the Cache National Forest, administered by the U.S. Forest Service (FS). The DEA contains the staff's analysis of the potential environmental impacts of the project and concludes that licensing the project, with appropriate environmental protective measures, would not constitute a major federal action that would significantly affect the quality of the human environment.

Copies of the DEA are available for review in the Public Reference Room, Room 2A, of the Commission's offices at 888 First Street, N.E., Washington, D.C. 20426. This DEA may also be viewed on the web at http://www.ferc.fed.us/online/rims.htm (please call (202) 208-2222 for assistance).

Any comments should be filed within 30 days from the date of this notice and should be addressed to David P. Boergers, Secretary, Federal Energy Regulatory Commission, 888 First Street, NE, Washington, DC 20426. For further information, contact Gaylord Hoisington, Project Coordinator, at (202) 219-2756.

David P. Boergers,
Secretary.

[FR Doc. 00-4456 Filed 2-24-00; 8:45 am]

BILLING CODE 6717-01-M